Title 3—

The President

Proclamation 9069 of December 9, 2013

Human Rights Day and Human Rights Week, 2013

By the President of the United States of America

A Proclamation

Six and a half decades ago, delegates from around the world convened to adopt the Universal Declaration of Human Rights, rejecting the notion that individual aspirations should be subject to the whims of tyrants and empires, and affirming every person's right to liberty, equality, and justice under the law. On Human Rights Day and during Human Rights Week, we resolve not only to celebrate these ideals but also to advance them in our time.

Humanity thrives because of our differences; the exchange of ideas among vibrant cultures is a source of innovation, beauty, and vitality. Yet across the globe, our common and inalienable rights bind us as one. All women and men—across borders and regardless of race, creed, sexual orientation, gender identity, or income level—share the freedoms of expression, religion, assembly, and association. We all have the right to take part in government, directly or through freely elected representatives. And as societies, we have the right to choose our own destiny.

But in many parts of the world, people are still persecuted for their beliefs, imprisoned for their ideals, and punished for their convictions. A growing number of countries are passing laws designed to stifle civil society—including organizations that promote universal human rights, support good governance, and bolster economic development. Securing freedoms that are threatened or denied will require an unceasing commitment. Today and always, let us break down prejudice, amplify the courageous voices that sound the call for change, and reaffirm our unwavering support for the principles enshrined in the Universal Declaration of Human Rights.

NOW, THEREFORE, I, BARACK OBAMA, President of the United States of America, by virtue of the authority vested in me by the Constitution and the laws of the United States, do hereby proclaim December 10, 2013, as Human Rights Day and the week beginning December 10, 2013, as Human Rights Week. I call upon the people of the United States to mark these observances with appropriate ceremonies and activities.

IN WITNESS WHEREOF, I have hereunto set my hand this ninth day of December, in the year of our Lord two thousand thirteen, and of the Independence of the United States of America the two hundred and thirty-eighth.

[FR Doc. 2013-29913

Filed 12-13-13; 8:45 am]

Billing code 3295-F4